SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: June 1-July 31, 2014.

ADDRESSES: Susquehanna River Basin Commission, 4423 North Front Street, Harrisburg, PA 17110-1788.

FOR FURTHER INFORMATION CONTACT: Jason E. Oyler, Regulatory Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and (f) for the time period specified above:

Approvals By Rule Issued Under 18 CFR 806.22(e):

1. Mayapple Real Estate Holdings, Mayapple Golf Links, ABR-201406001, South Middletown Township, Cumberland County, Pa.; Consumptive Use of Up to 0.200 mgd; Approval Date: July 3, 2014.

Approvals By Rule Issued Under 18 CFR 806.22(f):

1. Southwestern Energy Production Company, Pad ID: NR-03-COLWELL WEST-PAD, ABR-201406002, New Milford Township, Susquehanna County, Pa.; Consumptive Use of Up to 4.999 mgd; Approval Date: June 4, 2014.

2. Southwestern Energy Production Company, Pad ID: NR-17-COLEMAN-PAD, ABR-201406003, Great Bend and Oakland Townships, Susquehanna County, Pa.; Consumptive Use of Up to 4.999 mgd; Approval Date: June 4, 2014.

3. Chief Oil & Gas LLC, Pad ID: Baumunk North B Drilling Pad, ABR-201406004, Fox Township, Sullivan County, Pa.; Consumptive Use of Up to 2.500 mgd; Approval Date: June 4, 2014.

4. Chief Oil & Gas LLC, Pad ID: Wissler Drilling Pad, ABR-201406005, McNett Township, Lycoming County, Pa.; Consumptive Use of Up to 2.500 mgd; Approval Date: June 4, 2014.

5. Chief Oil & Gas LLC, Pad ID: Clear Springs Dairy Drilling Pad #1, ABR-200091214.R1, Burlington Township, Bradford County, Pa.; Consumptive Use of Up to 5.000 mgd; Approval Date: June 4, 2014.

6. Range Resources—Appalachia, LLC, Pad ID: Gulf USA 67H, ABR-201406006, Snow Shoe Township, Centre County, Pa.; Consumptive Use of Up to 5.000 mgd; Approval Date: June 6, 2014.

7. Southwestern Energy Production Company, Pad ID: Chamberlin, ABR-201008088.R1, Stevens Township, Bradford County, Pa.; Consumptive Use of Up to 4.990 mgd; Approval Date: June 9, 2014.

8. Southwestern Energy Production Company, Pad ID: Strong Pad, ABR-201009085.R1, Herrick Township, Bradford County, Pa.; Consumptive Use of Up to 4.990 mgd; Approval Date: June 9, 2014.

9. Southwestern Energy Production Company, Pad ID: Ross Pad, ABR-201009086.R1, Herrick Township, Bradford County, Pa.; Consumptive Use of Up to 4.990 mgd; Approval Date: June 9, 2014.

10. Ultra Resources Inc., Pad ID: T Pierson Pad, ABR-20090903.R1, Gaines Township, Tioga County, Pa.; Consumptive Use of Up to 4.990 mgd; Approval Date: June 10, 2014.

11. Seneca Resources Corporation, Pad ID: CRV D08-Pad G, ABR-201406007, Norwich Township, McKean County, Pa.; Consumptive Use of Up to 4.000 mgd; Approval Date: June 13, 2014.

12. Chief Oil & Gas LLC, Pad ID: Clark Drilling Pad, ABR-201406008, Springville Township, Susquehanna County, Pa.; Consumptive Use of Up to 2.500 mgd; Approval Date: June 13, 2014.

13. Anadarko E&P Onshore LLC, Pad ID: Lycoming H&FC Pad B, ABR-201009099.R1, Cogan House Township, Lycoming County, Pa.; Consumptive Use of Up to 3.000 mgd; Approval Date: June 13, 2014.

14. Range Resources—Appalachia, LLC, Pad ID: Laurel Hill 1, ABR-20100154.R1, Jackson Township, Lycoming County, Pa.; Consumptive Use of Up to 5.000 mgd; Approval Date: June 13, 2014.

15. Chief Oil & Gas LLC, Pad ID: Czop Drilling Pad, ABR-201406009, Fox Township, Sullivan County, Pa.; Consumptive Use of Up to 2.500 mgd; Approval Date: June 16, 2014.

16. Chesapeake Appalachia, LLC, Pad ID: Judd, ABR-20090534.R1, Monroe Township, Bradford County, Pa.; Consumptive Use of Up to 7.500 mgd; Approval Date: June 16, 2014.

17. Chesapeake Appalachia, LLC, Pad ID: Benscoter, ABR-20090601.R1, Auburn Township, Susquehanna County, Pa.; Consumptive Use of Up to 7.500 mgd; Approval Date: June 16, 2014.

18. Chesapeake Appalachia, LLC, Pad ID: Chancellor, ABR-20090532.R1, Asylum Township, Bradford County, Pa.; Consumptive Use of Up to 7.500 mgd; Approval Date: June 16, 2014.

19. Chesapeake Appalachia, LLC, Pad ID: Clapper, ABR-20090533.R1, Auburn Township, Susquehanna County, Pa.; Consumptive Use of Up to 7.500 mgd; Approval Date: June 16, 2014.

20. Chesapeake Appalachia, LLC, Pad ID: Evanchick, ABR-20090604.R1, Asylum Township, Bradford County, Pa.; Consumptive Use of Up to 7.500 mgd; Approval Date: June 16, 2014.

21. Chesapeake Appalachia, LLC, Pad ID: Mowry, ABR-20090527.R1, Tuscarora Township, Bradford County, Pa.; Consumptive Use of Up to 7.500 mgd; Approval Date: June 17, 2014.

22. Chesapeake Appalachia, LLC, Pad ID: May, ABR-20090528.R1, Granville Township, Bradford County, Pa.; Consumptive Use of Up to 7.500 mgd; Approval Date: June 17, 2014.

23. Chesapeake Appalachia, LLC, Pad ID: VanNoy, ABR-20090535.R1, Granville Township, Bradford County, Pa.; Consumptive Use of Up to 7.500 mgd; Approval Date: June 17, 2014.

24. Chesapeake Appalachia, LLC, Pad ID: Przybyszewski, ABR-20090555.R1, Auburn Township, Susquehanna County, Pa.; Consumptive Use of Up to 7.500 mgd; Approval Date: June 17, 2014.

25. Chesapeake Appalachia, LLC, Pad ID: Strom, ABR-20090602.R1, Monroe Township, Bradford County, Pa.; Consumptive Use of Up to 7.500 mgd; Approval Date: June 17, 2014.

26. Chesapeake Appalachia, LLC, Pad ID: Vargson, ABR-20090605.R1, Granville Township, Bradford County, Pa.; Consumptive Use of Up to 7.500 mgd; Approval Date: June 17, 2014.

27. Seneca Resources Corporation, Pad ID: CRV Pad C08-X, ABR-201406010, Shippen Township, Cameron County, Pa.; Consumptive Use of Up to 4.000 mgd; Approval Date: June 26, 2014.

28. Southwestern Energy Production Company, Pad ID: Ball, ABR-201007060.R1, Stevens Township, Bradford County, Pa.; Consumptive Use of Up to 4.999 mgd; Approval Date: June 26, 2014.

29. Chesapeake Appalachia, LLC, Pad ID: Welles 1, ABR-20090610.R1, Terry Township, Bradford County, Pa.; Consumptive Use of Up to 7.500 mgd; Approval Date: June 26, 2014.

30. Talisman Energy USA, Inc., Pad ID: Castle 01 047, ABR-20100128.R1, Armenia Township, Bradford County, Pa.; Consumptive Use of Up to 3.000 mgd; Approval Date: June 26, 2014.

31. Talisman Energy USA, Inc., Pad ID: Hoover G 017, ABR-20100108.R1, Canton Township, Bradford County, Pa.; Consumptive Use of Up to 3.000 mgd; Approval Date: June 26, 2014.

32. Talisman Energy USA, Inc., Pad ID: Foust J 1H, ABR-20100109.R1, Granville Township, Bradford County, Pa.; Consumptive Use of Up to 3.000 mgd; Approval Date: June 26, 2014.

33. Talisman Energy USA, Inc., Pad ID: Lutz T1, ABR-20100110.R1, Troy Township, Bradford County, Pa.; Consumptive Use of Up to 3.000 mgd; Approval Date: June 26, 2014.

34. Talisman Energy USA, Inc., Pad ID: Vanblarcom R 004, ABR-20100103.R1, Columbia Township, Bradford County, Pa.; Consumptive Use of Up to 3.000 mgd; Approval Date: June 30, 2014.

35. Talisman Energy USA, Inc., Pad ID: Lutz T2, ABR-20100111.R1, Troy Township, Bradford County, Pa.; Consumptive Use of Up to 3.000 mgd; Approval Date: June 30, 2014.

36. Talisman Energy USA, Inc., Pad ID: TWL Assoc 01 016, ABR-20100129.R1, Armenia Township, Bradford County, Pa.; Consumptive Use of Up to 3.000 mgd; Approval Date: June 30, 2014.

37. Talisman Energy USA, Inc., Pad ID: Thomas FT 2, ABR-20100113.R1, Troy Township, Bradford County, Pa.; Consumptive Use of Up to 3.000 mgd; Approval Date: June 30, 2014.

38. Talisman Energy USA, Inc., Pad ID: Thomas FT 1, ABR-20100112.R1, Troy Township, Bradford County, Pa.; Consumptive Use of Up to 3.000 mgd; Approval Date: June 30, 2014.

39. Chesapeake Appalachia, LLC, Pad ID: Deremer, ABR-201407001, Tuscarora Township, Bradford County, Pa.; Consumptive Use of Up to 7.500 mgd; Approval Date: July 1, 2014.

40. Chesapeake Appalachia, LLC, Pad ID: Windswept, ABR-201407002, Auburn Township, Susquehanna County, Pa.; Consumptive Use of Up to 7.500 mgd; Approval Date: July 1, 2014.

41. Cabot Oil & Gas Corporation, Pad ID: WeissM P1, ABR-201407003, Gibson Township, Susquehanna County, Pa.; Consumptive Use of Up to 4.250 mgd; Approval Date: July 1, 2014.

42. Cabot Oil & Gas Corporation, Pad ID: ShieldsG P2, ABR-20091023.R1, Dimock Township, Susquehanna County, Pa.; Consumptive Use of Up to 3.575 mgd; Approval Date: July 1, 2014.

43. Cabot Oil & Gas Corporation, Pad ID: HibbardAM P2, ABR-20091224.R1, Dimock Township, Susquehanna County, Pa.; Consumptive Use of Up to 3.575 mgd; Approval Date: July 1, 2014.

44. Southwestern Energy Production Company, Pad ID: Behrend Pad, ABR-201010031.R1, Herrick Township, Bradford County, Pa.; Consumptive Use of Up to 4.990 mgd; Approval Date: July 1, 2014.

45. Southwestern Energy Production Company, Pad ID: Reeve Pad, ABR-20100403.R1, Herrick Township, Bradford County, Pa.; Consumptive Use of Up to 4.999 mgd; Approval Date: July 1, 2014.

46. Southwestern Energy Production Company, Pad ID: Belcher Pad, ABR-201011015.R1, Clifford Township, Susquehanna County, Pa.; Consumptive Use of Up to 4.990 mgd; Approval Date: July 1, 2014.

47. Cabot Oil & Gas Corporation, Pad ID: HibbardAM P1, ABR-20091223.R1, Dimock Township, Susquehanna County, Pa.; Consumptive Use of Up to 3.575 mgd; Approval Date: July 2, 2014.

48. Southwestern Energy Production Company, Pad ID: Ferguson, ABR-20100201.R1, Herrick Township, Bradford County, Pa.; Consumptive Use of Up to 4.999 mgd; Approval Date: July 2, 2014.

49. Southwestern Energy Production Company, Pad ID: Robinson, ABR-20100653.R1, Stevens Township, Bradford County, Pa.; Consumptive Use of Up to 4.999 mgd; Approval Date: July 2, 2014.

50. Southwestern Energy Production Company, Pad ID: Greenzweig (GU C Pad), ABR-201407004, Herrick Township, Bradford County, Pa.; Consumptive Use of Up to 4.999 mgd; Approval Date: July 2, 2014.

51. Pennsylvania General Energy Company, LLC, Pad ID: Tract 729 well #2384, ABR-20090734.R1, Cummings Township, Lycoming County, Pa.; Consumptive Use of Up to 4.999 mgd; Approval Date: July 9, 2014.

52. Pennsylvania General Energy Company, LLC, Pad ID: State Forest Tract 293 well pad #1, ABR-20090735.R1, Cummings Township, Lycoming County, Pa.; Consumptive Use of Up to 4.900 mgd; Approval Date: July 9, 2014.

53. Chief Oil & Gas LLC, Pad ID: Walters Unit #1H, ABR-20100135.R1, West Burlington Township, Bradford County, Pa.; Consumptive Use of Up to 5.000 mgd; Approval Date: July 9, 2014.

54. Chief Oil & Gas LLC, Pad ID: Elliott Drilling Pad #1H, ABR-20100136.R1, Monroe Township, Bradford County, Pa.; Consumptive Use of Up to 5.000 mgd; Approval Date: July 9, 2014.

55. Anadarko E&P Onshore, LLC, Pad ID: COP Tr 027C Pad A, ABR-201407005, McHenry Township, Lycoming County, Pa.; Consumptive Use of Up to 4.000 mgd; Approval Date: July 11, 2014.

56. Anadarko E&P Onshore, LLC, Pad ID: COP Tr 027C Pad B, ABR-201407006, McHenry Township, Lycoming County, Pa.; Consumptive Use of Up to 4.000 mgd; Approval Date: July 11, 2014.

57. Chief Oil & Gas LLC, Pad ID: SGL-12 A Drilling Pad, ABR-201407007, Overton Township, Bradford County, Pa.; Consumptive Use of Up to 2.500 mgd; Approval Date: July 14, 2014.

58. Chesapeake Appalachia, LLC, Pad ID: White SUS, ABR-201407008, Auburn Township, Susquehanna County, Pa.; Consumptive Use of Up to 7.500 mgd; Approval Date: July 15, 2014.

59. Chesapeake Appalachia, LLC, Pad ID: McDonough, ABR-201407009, Meshoppen Township, Wyoming County, Pa.; Consumptive Use of Up to 7.500 mgd; Approval Date: July 14, 2014.

60. Southwestern Energy Production Company, Pad ID: NR-20-COLWELL-PAD, ABR-201407010, Oakland Township, Susquehanna County, Pa.; Consumptive Use of Up to 4.999 mgd; Approval Date: July 14, 2014.

61. Cabot Oil & Gas Corporation, Pad ID: PowersN P2, ABR-201407011, Middletown Township, Susquehanna County, Pa.; Consumptive Use of Up to 4.250 mgd; Approval Date: July 22, 2014.

62. Southwestern Energy Production Company, Pad ID: Price (PU BB Pad), ABR-201407012, Lenox Township, Susquehanna County, Pa.; Consumptive Use of Up to 4.999 mgd; Approval Date: July 22, 2014.

63. WPX Energy Appalachia, LLC, Pad ID: Micks Pad Site, ABR-20090938.R1, Forest Lake Township, Susquehanna County, Pa.; Consumptive Use of Up to 3.999 mgd; Approval Date: July 23, 2014.

64. Chief Oil & Gas LLC, Pad ID: Bacon Drilling Pad #1, ABR-20100202.R1, Burlington Township, Bradford County, Pa.; Consumptive Use of Up to 2.000 mgd; Approval Date: July 23, 2014.

65. Chief Oil & Gas LLC, Pad ID: Dacheux B Drilling Pad, ABR-201407013, Cherry Township, Sullivan County, Pa.; Consumptive Use of Up to 2.500 mgd; Approval Date: July 23, 2014.

66. Chief Oil & Gas LLC, Pad ID: Reibson Drilling Pad, ABR-201407014, Elkland Township, Sullivan County, Pa.; Consumptive Use of Up to 2.500 mgd; Approval Date: July 23, 2014.

67. Southwestern Energy Production Company, Pad ID: RU-72-FOLKVARD-PAD, ABR-201407016, Jackson Township, Susquehanna County, Pa.; Consumptive Use of Up to 4.999 mgd; Approval Date: July 28, 2014.

68. Range Resources—Appalachia, LLC, Pad ID: Cornwall 6H-8H, ABR-201407017, Lewis Township, Lycoming County, Pa.; Consumptive Use of Up to 5.000 mgd; Approval Date: July 28, 2014.

69. Range Resources—Appalachia, LLC, Pad ID: Roupp, ABR-201407018, Mifflin Township, Lycoming County, Pa.; Consumptive Use of Up to 5.000 mgd; Approval Date: July 28, 2014.

70. EOG Resources, Inc., Pad ID: LEE 1H, ABR-20091122.R1, Springfield Township, Bradford County, Pa.; Consumptive Use of Up to 1.999 mgd; Approval Date: July 29, 2014.

71. EOG Resources, Inc., Pad ID: LEE 2H, ABR-20091123.R1, Springfield Township, Bradford County, Pa.; Consumptive Use of Up to 1.999 mgd; Approval Date: July 29, 2014.

72. EOG Resources, Inc., Pad ID: LEE 3H, ABR-20091124.R1, Springfield Township, Bradford County, Pa.; Consumptive Use of Up to 1.999 mgd; Approval Date: July 29, 2014.

Authority: Pub. L. 91-575, 84 Stat. 1509 et seq., 18 CFR Parts 806, 807, and 808.

Dated: October 8, 2014.
Stephanie L. Richardson,
Secretary to the Commission.

[FR Doc. 2014-24700 Filed 10-16-14; 8:45 am]

BILLING CODE 7040-01-P